DEPARTMENT OF ENERGY

Federal Energy Regulatory Commission

Combined Notice of Filings #1

Take notice that the Commission received the following electric rate filings:

Docket Numbers: ER11-2592-002.

Applicants: Pacific Gas and Electric Company.

Description: Joint Progress Report of PG&E and SCE and Request for Extension of Temporary Waiver of Certain CAISO Tariff Provisions. Replaces Accession No. 201108315214.

Filed Date: 09/01/2011.

Accession Number: 20110901-5129.

Comment Date: 5 p.m. Eastern Time on Thursday, September 22, 2011.

Docket Numbers: ER11-3697-001.

Applicants: Southern California Edison Company.

Description: Southern California Edison Company submits tariff filing per 35: Compliance Filing—Transmission Owner Tariff Rate Filing (TO6) to be effective 8/1/2011.

Filed Date: 09/01/2011.

Accession Number: 20110901-5111.

Comment Date: 5 p.m. Eastern Time on Thursday, September 22, 2011.

Docket Numbers: ER11-4419-000.

Applicants: ISO New England Inc.

Description: ISO New England Inc. Resource Termination Filing—United Illuminating.

Filed Date: 09/01/2011.

Accession Number: 20110901-5095.

Comment Date: 5 p.m. Eastern Time on Thursday, September 22, 2011.

Docket Numbers: ER11-4420-000.

Applicants: ISO New England Inc.

Description: ISO New England Inc. Resource Termination Filing—EnerNOC.

Filed Date: 09/01/2011.

Accession Number: 20110901-5096.

Comment Date: 5 p.m. Eastern Time on Thursday, September 22, 2011.

Docket Numbers: ER11-4421-000.

Applicants: South Carolina Electric & Gas Company.

Description: South Carolina Electric & Gas Company submits tariff filing per 35.13(a)(2)(iii): Columbia Hydro Filing to be effective 8/31/2011.

Filed Date: 09/01/2011.

Accession Number: 20110901-5145.

Comment Date: 5 p.m. Eastern Time on Thursday, September 22, 2011.

Docket Numbers: ER11-4421-000.

Applicants: South Carolina Electric & Gas Company.

Description: Supplemental Information/Request of South Carolina Electric & Gas Company.

Filed Date: 09/01/2011.

Accession Number: 20110901-5221.

Comment Date: 5 p.m. Eastern Time on Thursday, September 22, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2011.
Nathaniel J. Davis, Sr.,
Deputy Secretary.

[FR Doc. 2011-23229 Filed 9-9-11; 8:45 am]

BILLING CODE 6717-01-P